DEPARTMENT OF HEALTH AND HUMAN SERVICES

42 CFR Part 36

Contracts Under the Indian Self-Determination Act; Removal of Regulations

AGENCY: Indian Health Service, HHS.

ACTION: Final rule.

SUMMARY: The Indian Health Service (IHS) is eliminating regulations on contracts under the Indian Self-Determination Act as mandated by Executive Order 12866 to streamline the regulatory process and enhance the planning and coordination of new and existing regulations.

EFFECTIVE DATE: October 3, 2000.

FOR FURTHER INFORMATION CONTACT: Leslie M. Morris, Director, Division of Regulatory and Legal Affairs, Indian Health Service, Suite 450, 12300 Twinbrook Parkway, Rockville, MD 20852; telephone (301) 443-1116. (This is not a toll-free number.)

SUPPLEMENTARY INFORMATION: On June 24, 1996, The Department of Health and Human Services (HHS) and the Department of the Interior (DOI) issued joint regulations authorized by section 107 of the Indian Self-Determination and Education Assistance Act (ISDA), Public Law 93-638, as amended, 25 U.S.C. 450k. These joint regulations, published in the Federal Register on June 24, 1996, and codified at 25 CFR part 900, replaced Department regulations codified at 42 CFR part 36, subpart I, “Contracts under the ISDA”; 48 CFR section 352.280-4, “Contracts awarded under the ISDA”; 48 CFR section 352.380-4, “Contracts awarded under the ISDA”; and 48 CFR subpart 380.4, “Contracts awarded under the ISDA”; because they are no longer necessary for the Administration of the IHS Program.

Section 107(b) of the ISDA provides in pertinent part that “the secretary is authorized to repeal any regulation inconsistent with the provisions of this act.” The HHS has proposed at 64 FR 1344 to revise 48 CFR, Chapter 3, to streamline and simplify its acquisition regulations (HHSRA) in accordance with the directions of the National Performance Review. In so doing, the sections of 48 CFR liminated by the joint rule (25 CFR part 900) issued by the HHS and the DOI would be removed. Therefore, the IHS proposed at 65 FR 4797 the elimination of only Subpart I of 42 CFR part 36. No comments were received in response to the proposed rule. The proposed rule is converted to a final rule without change.

Executive Order 12866

This rule is not a significant regulatory action under Executive Order 12866 and has not been reviewed by the Office of Management and Budget. It removes obsolete regulations.

Regulatory Flexibility Act

The HHS certifies that this document will not have a significant economic effect on a substantial number of small entities under the Regulatory Flexibility Act since it only removes obsolete regulations.

Executive Order 12612

The Department has determined that this rule does not have significant Federalism effects because it pertains solely to Federal-Tribal relations and will not interfere with the roles, rights, and responsibilities of States.

Paperwork Reduction Act of 1995

This regulation contains no information collection requirement that would require notification of the Office of Management and Budget.

The authority to eliminate these regulations is 42 U.S.C. 2003 and 25 U.S.C. 13.

List of Subjects in 42 CFR Part 36

American Indians, Alaska Natives, Government health care, Indians—business and finance, property.

Dated: September 12, 2000.
Michel E. Lincoln,
Deputy Director, Indian Health Service.
Approved: September 26, 2000.
Donna E. Shalala,
Secretary of Health and Human Services.

For the reasons set out in the preamble, and under the authority of 42 U.S.C. 2003 and 25 U.S.C. 13, subpart I of 42 CFR part 36 is removed and reserved.

[FR Doc. 00-25292 Filed 10-2-00; 8:45 am]

BILLING CODE 4160-16-M